DEPARTMENT OF TRANSPORTATION

Federal Aviation Administration

Public Meeting With Interested Persons To Discuss the Proposed Federal Aviation Administration Policy (Draft Order 8110.RC) for the Certification of Restricted Category Aircraft

AGENCY: Federal Aviation Administration, (DOT.

ACTION: Notice of public meeting.

SUMMARY: The FAA will hold two informational meetings to discuss the proposed policy (Draft Order 8110.RC) that the FAA's Aircraft Certification Service personnel, Flight Standards Service Personnel, persons designated by the Administrator, and organizations associated with the certification process required by Title 14 of the Code of Federal Regulations (14 CFR) will use during the certification evaluation of restricted category aircraft. These public meetings will be a continuation of information gathering for the evaluation of Restricted Category Aircraft Applications originally offered to the public for comments in the Federal Register dated October 8, 2004, Page 60454 (Volume 69, Number 195). Notes from these informational meetings will be posted on the Internet at: http://www.faa.gov/Certification/Aircraft/DraftDoc/Comments.htm.

DATES: The first meeting will be held on Tuesday, February 8, 2005, from 9 am.m. to 12 noon. The second public meeting will be held on the east coast of the U.S., at a date and location to be determined.

ADDRESSES: The first meeting will be held at the Anaheim Convention Center (concurrent with HAI Heli-Expo), located at 800 W. Katella Ave., Anaheim, CA 92802.

FOR FURTHER INFORMATION CONTACT: To obtain additional details on these meetings, please contact Mr. Graham Long, AIR-110, Room 815, Federal Aviation Administration, Aircraft Certification Service, Aircraft Engineering Division, 800 Independence Avenue, SW., Washington, DC 20591, Telephone (202) 267-3715, FAX: (202) 237-5340, or e-mail 9-awa-air110-gn12@faa.gov.

Issued in Washington, DC, on January 11, 2005.
Susan J.M. Cabler,
Assistant Manager, Aircraft Engineering Division, Aircraft Certification Service.

[FR Doc. 05-967 Filed 1-18-05; 8:45 am]

BILLING CODE 4910-13-M